CONSUMER PRODUCT SAFETY COMMISSION

[Docket No. CPSC-2012-0056]

Submission for OMB Review; Comment Request—Safety Standard for Omnidirectional Citizens Band Base Station Antennas

AGENCY: Consumer Product Safety Commission.

ACTION: Notice.

SUMMARY: Pursuant to the Paperwork Reduction Act of 1995 (44 U.S.C. Chapter 35), the Consumer Product Safety Commission (Commission or CPSC) announces that it has submitted to the Office of Management and Budget (OMB) a request for extension of approval of a collection of information associated with the Commission's safety standard for omnidirectional citizens band base station antennas.

DATES: Written comments on this request for extension of approval of information collection requirements should be submitted by January 25, 2013.

ADDRESSES: To ensure that comments on the information collection are received, the OMB recommends that written comments be faxed to the Office of Information and Regulatory Affairs, OMB, Attn: CPSC Desk Officer, FAX: 202-395-6974, or emailed to oira_submission@omb.eop.gov. All comments should be identified by Docket No. CPSC-2012-0056. In addition, written comments also should be submitted at http://www.regulations.gov, under Docket No. CPSC-2012-0056, or by mail/hand delivery/courier (for paper, disk, or CD-ROM submissions), preferably in five copies, to: Office of the Secretary, U.S. Consumer Product Safety Commission, Room 820, 4330 East West Highway, Bethesda, MD 20814; telephone (301) 504-7923. For access to the docket to read background documents or comments received, go to http://www.regulations.gov.

FOR FURTHER INFORMATION CONTACT: Robert H. Squibb, U.S. Consumer Product Safety Commission, 4330 East West Highway, Bethesda, MD 20814; Telephone: 301-504-7923 or by email to: rsquibb@cpsc.gov.

SUPPLEMENTARY INFORMATION: In the Federal Register of October 4, 2012, and October 17, 2012 (77 FR 60682, 77 FR 63800), the Consumer Product Safety Commission published a notice in accordance with provisions of the Paperwork Reduction Act of 1995 (44 U.S.C. Chapter 35) to announce the agency's intention to seek extension of approval of the collection of information required in the Safety Standard for Omnidirectional Citizens Band Base Station (16 CFR Part 1204). No comments were received in response to that notice.

The Safety Standard for Omnidirectional Citizens Band Base Station Antennas establishes performance requirements for omnidirectional citizens band base station antennas to reduce unreasonable risks of death and injury that may result if an antenna contacts overhead power lines while being erected or removed from its site. Certification regulations implementing the standard require manufacturers, importers, and private labelers of antennas subject to the standard to test antennas for compliance with the standard and to maintain records of that testing.

The records of testing and other information required by the certification regulations allow the Commission to determine that antennas subject to the standard comply with its requirements. This information would also enable the Commission to obtain corrective actions if omnidirectional citizens band base station antennas failed to comply with the standard in a manner which creates a substantial risk of injury to the public.

We estimate that about five firms manufacture or import citizens band base station antennas subject to the standard. We estimate that the certification regulations will impose an average annual burden of about 220 hours on each of those firms. That burden will result from conducting the testing required by the regulations and maintaining records of the results of that testing. The total annual burden imposed by the regulations on manufacturers and importers of citizens band base station antennas is approximately 1,100 hours.

The hourly wage for the testing and recordkeeping required to conduct the testing and maintain records required by the regulations is approximately $61.75 (Bureau of Labor Statistics: total compensation for management, professional, and related workers in goods-producing private industries: http://www.bls.gov/ncs), for an estimated annual cost to the industry of $67,925.

Dated: December 20, 2012.
Todd A. Stevenson,
Secretary, Consumer Product Safety Commission.

[FR Doc. 2012-30989 Filed 12-21-12; 4:15 pm]

BILLING CODE 6355-01-P